ENVIRONMENTAL PROTECTION AGENCY

[FRL-7379-5]

2002 National Clean Water Act Recognition Awards

AGENCY: Environmental Protection Agency (EPA).

ACTION: Notice; announcement of EPA's 2002 National Clean Water Act Recognition Awards Presentation at the Water Environment Federation's Technical Conference (WEFTEC).

SUMMARY: The U.S. Environmental Protection Agency will recognize municipalities and industries for outstanding and innovative technological achievements in wastewater treatment and pollution abatement programs at the annual Clean Water Act Recognition Awards ceremony during the Water Environment Federation's Technical Conference in Chicago, Illinois. We are recognizing projects or programs in operations and maintenance, biosolids management, pretreatment, storm water management and combined sewer overflow controls. This action also announces the 2002 national awards winners.

DATES: Monday, September 30, 2002, 11:30 a.m. to 1 p.m.

ADDRESSES: The National awards presentation ceremony will be held at McCormick Place Convention Center, Chicago, Illinois.

FOR FURTHER INFORMATION CONTACT: Maria E. Campbell at the U.S. Environmental Protection Agency, Office of Wastewater Management, Municipal Assistance Branch, 1200 Pennsylvania Avenue, NW., (4204M), Washington, DC 20460, (202) 564-0628, or campbell.maria@epa.gov.

SUPPLEMENTARY INFORMATION: The National Clean Water Act Recognition Awards program is authorized under sec. 501(a) and (e) of the Clean Water Act. The awards program provides national recognition and encourages public support of programs aimed at protecting the public's health and safety and the nation's water quality. State water pollution control agencies and EPA regional offices make recommendations to headquarters for the national awards. Programs being recognized are in compliance with applicable water quality requirements and have a satisfactory record with respect to environmental quality. Municipalities and industries are recognized for their demonstrated achievements through the following:

(1) Outstanding operations and maintenance practices at publicly owned wastewater treatment facilities;

(2) Exemplary biosolids operating projects, technology development, research and public acceptance efforts;

(3) Municipal implementation and enforcement of local pretreatment programs;

(4) Implementing outstanding, innovative, and cost-effective storm water control; and,

(5) Combined sewer overflow control programs. Winners and categories for the EPA's 2002 National Clean Water Act Recognition Awards program are as follows:

| Category
National Operations and Maintenance Awards:
First Place:
City of Dallas Southside WWTP, Dallas, Texas | Large Advanced Plant.
City of Louisville WWTP, Louisville, Colorado | Medium Advanced Plant.
South Berwick Sewer District, South Berwick, Maine | Small Advanced Plant.
Passaic Valley Sewerage Commissioners, Newark, New Jersey | Large Secondary Plant.
City of Hamilton WWTP, Hamilton, Montana | Medium Secondary Plant.
Village of Amherst WWTF, Amherst, Wisconsin | Small Secondary Plant.
Selma-Kingsburg-Fowler County Sanitation District, Kingsburg, California | Large Non-Discharging Plant.
Second Place:
Lancaster Area Sewer Authority, Susquehanna WPCF, Lancaster, Pennsylvania | Large Advanced Plant.
Dale Mabry Advanced WWTP, Tampa, Florida | Medium Advanced Plant.
Town of Gorham WWTF, Gorham, New York | Small Advanced Plant.
City of Evansville Eastside WWTP, Evansville, Indiana | Large Secondary Plant.
Escatawpa Regional WWTP, Moss Point, Mississippi | Medium Secondary Plant.
Lineville WWTP, Lineville, Iowa | Small Secondary Plant.
City of Sturgis WWTP, Sturgis, South Dakota | Large Non-Discharging Plant.
National Biosolids Management Awards:
First Place:
Merrimack, WWTF, Merrimack, New Hampshire | Large Operating Projects.
City of Hood River WWTP, Hood River, Oregon | Small Operating Projects.
WNET, PBS Affiliate Television Station, New York, New York & U.S. EPA Region III, Water Protection Division, Philadelphia, Pennsylvania | Public Acceptance (Municipal).
Second Place:
Roanoke Regional WPCP, Roanoke, Virginia | Large Operating Projects—tie.
City of Largo, Wastewater Reclamation Facility, Clearwater, Florida | Large Operating Projects—tie.
Lower Colorado River Authority, Burnet, Texas | Small Operating Projects.
Honorable Mention:
City of Port Huron WWTP, Port Huron, Michigan | Small Operating Projects.
National Pretreatment Awards:
First Place:
Texarkana Water Utilities, Texarkana, Texas | 0-25 Significant Industrial Users (SIUs).
Chesterfield County Utilities Department, Chesterfield County, Virginia | 26-100 SIUs.
Sub-regional Operating Group of the Cities of Glendale, Mesa, Phoenix, Scottsdale and Tempe, Arizona | Greater than 100 SIUs.
Second Place:
City of Bangor WWTP, Bangor, Maine | 0-25 SIUs.
Palo Alto Regional WQCP, Palo Alto, California | 26-100 SIUs.
San Antonio Water System, San Antonio, Texas | Greater than 100 SIUs.
National Storm Water Management Awards:
First Place:
Greater Battle Creek Area Watershed Management Project, Battle Creek, Springfield and Calhoun County, Michigan | Municipal.
Second Place:
Jefferson Parish Department of Environmental Affairs, Jefferson, Louisiana | Municipal.
National Combined Sewer Overflow Control Awards:
First Place—Tie
Lincoln Sanitary District, Lincoln, Maine.
Sanitary District of Michigan City, Michigan City, Indiana.

Dated: September 12, 2002.
James A. Hanlon,
Director, Office of Wastewater Management.

[FR Doc. 02-23744 Filed 9-17-02; 8:45 am]

BILLING CODE 6560-50-P